DEPARTMENT OF HOMELAND SECURITY

Federal Emergency Management Agency

[Docket ID FEMA-2020-0002; Internal Agency Docket No. FEMA-B-2002]

Changes in Flood Hazard Determinations

AGENCY: Federal Emergency Management Agency, DHS.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Federal Regulations. The LOMR will be used by insurance agents and others to calculate appropriate flood insurance premium rates for new buildings and the contents of those buildings. For rating purposes, the currently effective community number is shown in the table below and must be used for all new policies and renewals.

DATES: These flood hazard determinations will be finalized on the dates listed in the table below and revise the FIRM panels and FIS report in effect prior to this determination for the listed communities.

From the date of the second publication of notification of these changes in a newspaper of local circulation, any person has 90 days in which to request through the community that the Deputy Associate Administrator for Insurance and Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at https://msc.fema.gov for comparison.

Submit comments and/or appeals to the Chief Executive Officer of the community as listed in the table below.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Map Information eXchange (FMIX) online at https://www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at https://msc.fema.gov for comparison.

(Catalog of Federal Domestic Assistance No. 97.022, “Flood Insurance.”)

Michael M. Grimm,
Assistant Administrator for Risk Management, Department of Homeland Security, Federal Emergency Management Agency.

State and county | Location and case No. | Chief executive officer of community | Community map repository | Online location of letter of map revision | Date of modification | Community No.
California:
Los Angeles | City of Santa Clarita (19-09-0909P). | The Honorable Marsha McLean, Mayor, City of Santa Clarita, City Hall, 23920 Valencia Boulevard, Suite 300, Santa Clarita, CA 91355. | City Hall Planning Department, 23920 Valencia Boulevard, Suite 300, Santa Clarita, CA 91355. | https://msc.fema.gov/portal/advanceSearch. | Apr. 6, 2020 | 060729
Nevada | Unincorporated Areas of Nevada County (19-09-0859P). | The Honorable Richard Anderson, Chairman, Board of Supervisors, Nevada County, 950 Maidu Avenue, Nevada City, CA 95959. | Nevada County Eric W. Rood Administrative Center, 950 Maidu Avenue, Nevada City, CA 95959. | https://msc.fema.gov/portal/advanceSearch. | Apr. 6, 2020 | 060210
Riverside | City of Lake Elsinore (19-09-1886P). | The Honorable Steve Manos, Mayor, City of Lake Elsinore, City Hall, 130 South Main Street, Lake Elsinore, CA 92530. | Engineering Department, 130 South Main Street, Lake Elsinore, CA 92530. | https://msc.fema.gov/portal/advanceSearch. | Apr. 7, 2020 | 060636
Riverside | Unincorporated Areas of Riverside County (19-09-1886P). | The Honorable Kevin Jeffries, Chairman, Board of Supervisors, Riverside County, 4080 Lemon Street, 5th Floor, Riverside, CA 92501. | Riverside County Flood Control and Water Conservation District, 1995 Market Street, Riverside, CA 92501. | https://msc.fema.gov/portal/advanceSearch. | Apr. 7, 2020 | 060245
Sacramento | City of Elk Grove (19-09-0908P). | The Honorable Steve Ly, Mayor, City of Elk Grove, City Hall, 8401 Laguna Palms Way, Elk Grove, CA 95758. | Public Works Department, 8401 Laguna Palms Way, Elk Grove, CA 95758. | https://msc.fema.gov/portal/advanceSearch. | Mar. 12, 2020 | 060767
Sacramento | Unincorporated Areas of Sacramento County (18-09-1752P). | The Honorable Patrick Kennedy, Chairman, Board of Supervisors, Sacramento County, 700 H Street, Suite 2450, Sacramento, CA 95814. | Sacramento County Department of Water Resources, 827 7th Street, Suite 301, Sacramento, CA 95814. | https://msc.fema.gov/portal/advanceSearch. | Mar. 23, 2020 | 060262
San Diego | City of National City (19-09-0359P). | The Honorable Alejandra Sotelo-Solis, Mayor, City of National City, 1243 National City Boulevard, National City, CA 91950. | City Hall, 1243 National City Boulevard, National City, CA 91950. | https://msc.fema.gov/portal/advanceSearch. | Apr. 6, 2020 | 060293
Florida:
St. Johns | Unincorporated Areas of St. Johns County (19-04-4728P). | The Honorable Jeb S. Smith, Chair, St. Johns County Board of Commissioners, 500 San Sebastian View, St. Augustine, FL 32084. | St. Johns County Permit Center, 4040 Lewis Speedway, St. Augustine, FL 32084. | https://msc.fema.gov/portal/advanceSearch. | Apr. 8, 2020 | 125147
St. Johns | Unincorporated Areas of St. Johns County (19-04-4958P). | The Honorable Jeb S. Smith, Chair, St. Johns County Board of Commissioners, 500 San Sebastian View, St. Augustine, FL 32084. | St. Johns County Permit Center, 4040 Lewis Speedway, St. Augustine, FL 32084. | https://msc.fema.gov/portal/advanceSearch. | Apr. 7, 2020 | 125147
Hawaii: Maui | Maui County (19-09-1599P). | The Honorable Michael P. Victorino, Mayor, County of Maui, 200 South High Street, Kalana O Maui Building, 9th Floor, Wailuku, HI 96793. | County of Maui Planning Department, One Main Plaza, 2200 Main Street, Suite 315, Wailuku, HI 96793. | https://msc.fema.gov/portal/advanceSearch. | Apr. 6, 2020 | 150003
Idaho:
Ada | City of Boise (19-10-0196P). | The Honorable David Bieter, Mayor, City of Boise, P.O. Box 500, Boise, ID 83702. | City Hall, 150 North Capitol Boulevard, Boise, ID 83702. | https://msc.fema.gov/portal/advanceSearch. | Apr. 3, 2020 | 160002
Blaine | Unincorporated Areas of Blaine County (19-10-0919P). | The Honorable Jacob Greenberg, Chairman, Blaine County Commissioners, Blaine County District Court, 219 South 1st Avenue, Suite 300, Hailey, ID 83333. | Blaine County Planning & Zoning, 219 South 1st Avenue, Suite 208, Hailey, ID 83333. | https://msc.fema.gov/portal/advanceSearch. | Apr. 9, 2020 | 165167
Illinois: DuPage | Village of Carol Stream (19-05-1848P). | The Honorable Frank Saverino, Mayor, Village of Carol Stream, 500 North Gary Avenue, Carol Stream, IL 60188. | Village Hall, 500 North Gary Avenue, Carol Stream, IL 60188. | https://msc.fema.gov/portal/advanceSearch. | Apr. 6, 2020 | 170202
Indiana:
Marion | City of Indianapolis (20-05-0050X). | The Honorable Joe Hogsett, Mayor, City of Indianapolis, 2501 City-County Building, 200 East Washington Street, Indianapolis, IN 46204. | City Hall, 1200 Madison Avenue, Suite 100, Indianapolis, IN 46225. | https://msc.fema.gov/portal/advanceSearch. | Apr. 8, 2020 | 180159
Marion | Town of Speedway (20-05-0050X). | Mr. Jacob Blasdel, Town Manager, Town of Speedway, 1450 North Lynhurst Drive, Speedway, IN 46224. | Town Hall, 1450 North Lynhurst Drive, Speedway, IN 46224. | https://msc.fema.gov/portal/advanceSearch. | Apr. 8, 2020 | 180162
Kansas: Johnson | City of Olathe (19-07-0801P). | The Honorable Michael Copeland, Mayor, City of Olathe, 100 East Santa Fe Street, Olathe, KS 66051. | City Hall, 100 East Sante Fe Street, Olathe, KS 66051. | https://msc.fema.gov/portal/advanceSearch. | Apr. 9, 2020 | 200173
Michigan: Macomb | Township of Macomb (19-05-3918P). | The Honorable Janet Dunn, Supervisor, Township of Macomb, 54111 Broughton Road, Macomb, MI 48042. | Township Hall, 54111 Broughton Road, Macomb, MI 48042. | https://msc.fema.gov/portal/advanceSearch. | Apr. 1, 2020 | 260445
Nevada:
Washoe | City of Reno (19-09-0823P). | The Honorable Hillary Schieve, Mayor, City of Reno, P.O. Box 1900, Reno, NV 89505. | City Hall, 1 East 1st Street, Reno, NV 89501. | https://msc.fema.gov/portal/advanceSearch. | Apr. 7, 2020 | 320020
Washoe | City of Reno (19-09-1056P). | The Honorable Hillary Schieve, Mayor, City of Reno, P.O. Box 1900, Reno, NV 89505. | City Hall, 1 East 1st Street, Reno, NV 89501. | https://msc.fema.gov/portal/advanceSearch. | Apr. 6, 2020 | 320020
Washoe | City of Reno (19-09-1298P). | The Honorable Hillary Schieve, Mayor, City of Reno, P.O. Box 1900, Reno, NV 89505. | City Hall, 1 East 1st Street, Reno, NV 89501. | https://msc.fema.gov/portal/advanceSearch. | Mar. 12, 2020 | 320020
Washoe | Unincorporated Areas of Washoe County (19-09-0823P). | The Honorable Vaughn Hartung, Chairman, Board of Commissioners, Washoe County, 1001 East 9th Street, Building A, Reno, NV 89512. | Washoe County Administration Building, Department of Public Works, 1001 East 9th Street, Reno, NV 89512. | https://msc.fema.gov/portal/advanceSearch. | Apr. 7, 2020 | 320019
Washoe | Unincorporated Areas of Washoe County (19-09-0887P). | The Honorable Vaughn Hartung, Chairman, Board of Commissioners, Washoe County, 1001 East 9th Street, Building A, Reno, NV 89512. | Washoe County Administration Building, Department of Public Works, 1001 East 9th Street, Reno, NV 89512. | https://msc.fema.gov/portal/advanceSearch. | Mar. 31, 2020 | 320019
Washoe | Unincorporated Areas of Washoe County (19-09-1056P). | The Honorable Vaughn Hartung, Chairman, Board of Commissioners, Washoe County, 1001 East 9th Street, Building A, Reno, NV 89512. | Washoe County Administration Building, Department of Public Works, 1001 East 9th Street, Reno, NV 89512. | https://msc.fema.gov/portal/advanceSearch. | Apr. 6, 2020 | 320019
Washoe | Unincorporated Areas of Washoe County (19-09-1298P). | The Honorable Vaughn Hartung, Chairman, Board of Commissioners, Washoe County, 1001 East 9th Street, Building A, Reno, NV 89512. | Washoe County Administration Building, Department of Public Works, 1001 East 9th Street, Reno, NV 89512. | https://msc.fema.gov/portal/advanceSearch. | Mar. 12, 2020 | 320019
Ohio: Warren | City of Lebanon (19-05-5135P). | The Honorable Amy Brewer, Mayor, City of Lebanon, City Hall, 50 South Broadway, Lebanon, OH 45036. | City Hall, 50 South Broadway, Lebanon, OH 45036. | https://msc.fema.gov/portal/advanceSearch. | Mar. 30, 2020 | 390557

[FR Doc. 2020-00183 Filed 1-8-20; 8:45 am]

BILLING CODE 9110-12-P